DEPARTMENT OF EDUCATION

Office of Postsecondary Education

34 CFR Part 674

Federal Perkins Loan Program

CFR Correction

In Title 34 of the Code of Federal Regulations, Parts 400 to 679, revised as of July 1, 2016, on page 698, in § 674.17, in the introductory text of paragraph (a), the words “one of” are removed.

[FR Doc. 2017-05299 Filed 3-15-17; 8:45 am]

BILLING CODE 1301-00-D